DEPARTMENT OF HOMELAND SECURITY

Coast Guard

33 CFR Part 165

[Docket No. USCG-2015-0616]

Safety Zones; Annual Events in the Captain of the Port Detroit Zone

AGENCY: Coast Guard, DHS.

ACTION: Notice of enforcement of regulation.

SUMMARY: The Coast Guard will enforce various safety zones for annual marine events in the Captain of the Port Detroit zone from 8 p.m. on July 2, 2015, through 11 p.m. on August 1, 2015. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port.

DATES: The regulations in 33 CFR 165.941 will be enforced at various dates and times between 8 p.m. on July 2, 2015, through 11 p.m. on August 1, 2015.

FOR FURTHER INFORMATION CONTACT: If you have questions on this document, call or email PO1 Todd Manow, Prevention, U.S. Coast Guard Sector Detroit, 110 Mount Elliot Ave., Detroit MI, 48207; telephone (313)568-9580; email Todd.M.Manow@uscg.mil.

SUPPLEMENTARY INFORMATION: The Coast Guard will enforce the safety zones listed in 33 CFR 165.941, Safety Zones; Annual Events in the Captain of the Port Detroit Zone, at the following dates and times for the following events, which are listed in chronological order by date and time of the event:

(1) Bay City Fireworks Festival, Bay City, MI. The safety zone listed in 33 CFR 165.941(a)(53), all waters of the Saginaw River near Bay City, MI, from the Veteran's Memorial Bridge south approximately 1000-yds to the River Walk Pier, will be enforced from 8 p.m. to 10:30 p.m. on July 2, 3, and 4, 2015. In the case of inclement weather on any scheduled day, this safety zone will be enforced from 8 p.m. to 10:30 p.m. on July 5, 2015.

(2) Caseville Fireworks, Caseville, MI.

The safety zone listed in 33 CFR 165.941(a)(36), all waters of Saginaw Bay, within a 300-yard radius of the fireworks launch site located at position 43°56.9′ N, 083°17.2′ W (NAD 83), located off the Caseville break wall, will be enforced from 9:45 p.m. to 10:15 p.m. on July 3, 2015. In the case of inclement weather on July 3, 2015, this safety zone will be enforced from 9:45 p.m. to 10:15 p.m. on July 5, 2015.

(3) Algonac Pickerel Tournament Fireworks, Algonac, MI. The safety zone listed in 33 CFR 165.941(a)(37), all waters of the St. Clair River, within a 300-yd radius of the fireworks barge located at position 42°37′ N, 082°32′ W, North of Russell Island, will be enforced from 10 p.m. to 10:30 p.m. on July 3, 2015. In the case of inclement weather on July 3, 2015, this safety zone will be enforced from 10 p.m. to 10:30 p.m. on July 4, 2015.

(4) Lexington Independence Festival Fireworks, Lexington, MI. The safety zone listed in 33 CFR 165.941(a)(42), all waters of Lake Huron within a 300-yd radius of the fireworks barge located 300 yards east of the Lexington break wall, will be enforced from 10 p.m. to 10:30 p.m. on July 3, 2015. In the case of inclement weather on July 3, 2015, this safety zone will be enforced from 10 p.m. to 10:30 p.m. on July 5, 2015.

(5) Grosse Ile Yacht Club Fireworks, Grosse Ile, MI. The safety zone listed in 33 CFR 165.941(a)(44), all waters of the Detroit River within a 300-yd radius of the fireworks launch site located at the Grosse Ile Yacht Club at position 42°06′ N, 083°09′ W (NAD 83), will be enforced from 9:45 p.m. to 10:30 p.m. on July 4, 2015.

(6) Roostertail Fireworks, Detroit, MI. The safety zone listed in 33 CFR 165.941(a)(1), all waters of the Detroit River within a 300-ft radius of the fireworks launch site between Detroit and Belle Isle near the Roostertail Restaurant, will be enforced from 10 p.m. to 10:10 p.m. on July 4, 2015.

(7) Harrisville Fireworks, Harrisville, MI. The safety zone listed in 33 CFR 165.941(a)(7), a 450-ft radius of the fireworks launch site located at the end of the break wall at the Harrisville harbor, will be enforced from 10 p.m. to 11 p.m. on July 5, 2014.

(8) City of St. Clair Fireworks, St. Clair, MI. The safety zone listed in 33 CFR 165.941(a)(31) will be enforced from 10 p.m. to 10:45 p.m. on July 4, 2015. In the case of inclement weather on July 4, 2015, this safety zone will be enforced from 10 p.m. to 10:45 p.m. on July 5, 2015. A regulated area is established to include all waters off the St. Clair River near St. Clair City Park, within a 300-yard radius of the fireworks launch site located at position 42°49′ N, 082°29′ W (NAD 83).

(9) Oscoda Township Fireworks, Oscoda, MI. The safety zone listed in 33 CFR 165.941(a)(32) will be enforced from 10 p.m. to 10:30 p.m. on July 4, 2015. In the case of inclement weather on July 4, 2015, this safety zone will be enforced from 10 p.m. to 10:30 p.m. on July 5, 2015. A regulated area is established to include all waters of Lake Huron, off the DNR Boat Launch near the mouth of the Au Sable River within a 300-yard radius of the fireworks launch site located at position 44°25′ N, 083°19′ W (NAD 83).

(10) Port Austin Fireworks, Port Austin, MI. The safety zone listed in 33 CFR 165.941(a)(33), all waters of Lake Huron within a 300-yd radius of the fireworks launch site, at position 42°03′ N, 082°59′ W, off of the Port Austin break wall, will be enforced from 10 p.m. to 10:30 p.m. on July 4, 2015. In the case of inclement weather on July 4, 2015, this safety zone will be enforced from 10 p.m. to 10:30 p.m. on July 5, 2015.

(11) Grosse Pointe Farms Fireworks, Grosse Pointe Farms, MI. The safety zone listed in 33 CFR 165.941(a)(35), all waters of Lake St. Clair, within a 300-yd radius of the fireworks launch site at position 42°23.85 N, 082°53.25 W, at a private park at Harbor Hill and Lake Shore Rd, will be enforced from 10 p.m. to 10:30 p.m. on July 4, 2015.

(12) Grosse Pointe Yacht Club 4th of July Fireworks, Grosse Pointe Shores, MI. The safety zone listed in 33 CFR 165.941(a)(41), all U.S. waters of the Lake St. Clair, within a 300 yard radius of position 42°26′ N, 082°52′ W, approximately 500 ft east of the Grosse Point Yacht Club, will be enforced from 10 p.m. to 10:30 p.m. on July 4, 2015. In the case of inclement weather on July 4, 2015, this safety zone will be enforced from 10 p.m. to 10:30 p.m. on July 5, 2015.

(13) Trenton Fireworks, Trenton, MI. The safety zone listed in 33 CFR 165.941(a)(45), all U.S. waters of the Detroit River, Trenton Channel, within a 300 yard radius of position 42°09′ N, 083°10′ W, will be enforced from 10 p.m. to 10:30 p.m. on July 4, 2015. In the case of inclement weather on July 4, 2015, this safety zone will be enforced from 10 p.m. to 10:30 p.m. on July 5, 2015.

(14) Belle Maer Harbor 4th of July Fireworks, Harrison Township, MI. The safety zone listed in 33 CFR 165.941(a)(46), all U.S. waters of Lake St. Clair, within a 400 yard radius of position 42°36′ 30″ N, 082°47′40″ W, will be enforced from 10 p.m. to 10:30 p.m. on July 4, 2015. In the case of inclement weather on July 4, 2015, this safety zone will be enforced from 10 p.m. to 10:30 p.m. on July 5, 2015.

(15) Tawas City 4th of July Fireworks, Tawas City, MI. The safety zone listed in 33 CFR 165.941(a)(47), all U.S. waters of Lake Huron, within a 300 yard radius of position 44°16′ N, 083°30′ W, 2000 feet west of the State Dock in East Tawas, will be enforced from 10 p.m. to 11 p.m. on July 4, 2015. In the case of inclement weather on July 4 2015, this safety zone will be enforced from 10 p.m. to 11 p.m. on July 5, 2015.

(16) Marine City Maritime Festival Fireworks, Marine City, MI. The safety zone listed in 33 CFR 165.941(a)(13), all waters of the St. Clair River within a 500 foot radius of the fireworks launch site located at position 42°43.15 N, 082°29.2 W, approximately 500 feet offshore from the intersection of Pearl St. and N. Water St, will be enforced from 10 p.m. to 10:30 p.m. on July 31, 2015. In the case of inclement weather on July 31, 2015, this safety zone will be enforced from 10 p.m. to 10:30 p.m. on August 1, 2015.

Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM. The Coast Guard will give notice to the public via Local Notice to Mariners and VHF radio broadcasts that the regulation is being enforced.

This document is issued under authority of 33 CFR 165.941 and 5 U.S.C. 552 (a). If the Captain of the Port determines that any of these safety zones need not be enforced for the full duration stated in this document, he may suspend such enforcement and notify the public of the suspension via a Broadcast Notice to Mariners.

Dated: June 29, 2015.
Scott B. Lemasters,
Captain, U. S. Coast Guard, Captain of the Port Detroit.

[FR Doc. 2015-17126 Filed 7-10-15; 8:45 am]

BILLING CODE 9110-04-P